DEPARTMENT OF THE TREASURY

Financial Management Service; Privacy Act of 1974, as Amended; System of Records

AGENCY: Financial Management Service, Treasury.

ACTION: Withdrawal of a Privacy Act Notice.

SUMMARY: The Department of the Treasury is withdrawing the proposed system of records notice published on behalf of the Financial Management Service.

DATES: December 10, 2010.

FOR FURTHER INFORMATION CONTACT: Dale Underwood, Privacy Act officer, Department of the Treasury, (202) 622-0874.

SUPPLEMENTARY INFORMATION: The Department of the Treasury is withdrawing the proposed system of records notice, “Treasury/FMS .008-Mailing List Records” (Document Number 2010-30297), published on December 3, 2010, at 75 FR 75546. The document will be revised and reissued with additional details and a new 30-day comment period. However, any comments received on the withdrawn notice will also be considered.

Dated: December 6, 2010.
Melissa Hartman,
Deputy Assistant Secretary for Privacy, Transparency, and Records.

[FR Doc. 2010-31083 Filed 12-9-10; 8:45 am]

BILLING CODE 4810-35-P